ENVIRONMENTAL PROTECTION AGENCY

[FRL-7449-1]

Inventory of U.S. Greenhouse Gas Emissions and Sinks: 1990-2001

AGENCY: Environmental Protection Agency (EPA).

ACTION: Notice of document availability and request for comments.

SUMMARY: The Draft Inventory of U.S. Greenhouse Gas Emissions and Sinks: 1990-2001 is available for public review. Annual U.S. emissions for the period of time from 1990-2001 are summarized and presented by source category and sector. The inventory contains estimates of carbon dioxide (CO2), methane (CH4), nitrous oxide (N2O), Hydrofluorocarbons (HFC), perflourocarbons (PFC), and sulfur hexaflouride (SF6) emissions. The inventory also includes estimates of carbon sequestration in U.S. forests and, new this year, an updated assessment of emissions from the electric power industry. The technical approach used in this report to estimate emissions and sinks for greenhouse gases is consistent with the methodologies recommended by the Intergovernmental Panel on Climate Change (IPCC) and reported in a format consistent with the United Nations Framework Convention on Climate Change (UNFCCC) reporting guidelines. The Inventory of U.S. Greenhouse Gas Emissions and Sinks is the latest in a series of annual U.S. submissions to the Secretariat of the UNFCCC.

DATES: To ensure your comments are considered for the final version of the document, please submit your comments within 30 days of the appearance of this notice. However, comments received after that date will still be welcomed and be considered for the next edition of this report.

ADDRESSES: Comments should be submitted to Mr. William N. Irving at: Environmental Protection Agency, Clean Air Markets Division (6204N), 1200 Pennsylvania Ave., NW., Washington, DC 20460, Fax: (202) 565-6673. You are welcome and encouraged to send an e-mail with your comments to irving.bill@epa.gov.

FOR FURTHER INFORMATION CONTACT: Mr. William N. Irving, Environmental Protection Agency, Office of Air and Radiation, Office of Atmospheric Programs, Clean Air Markets Division, (202) 565-9065, irving.bill@epa.gov.

SUPPLEMENTARY INFORMATION: The draft report can be obtained by visiting the U.S. EPA's global warming site at http://www.epa.gov/globalwarming/publications/emissions/.

Dated: January 30, 2003.
Robert Brenner,
Acting Assistant Administrator, Office of Air and Radiation.

[FR Doc. 03-3063 Filed 2-6-03; 8:45 am]

BILLING CODE 6560-50-P